DEPARTMENT OF AGRICULTURE

Forest Service

Northwest Sacramento Provincial Advisory Committee (SAC PAC)

AGENCY: Forest Service, USDA.

ACTION: Notice of meeting.

SUMMARY: The Northwest Sacramento Provincial Advisory Committee (PAC) will meet on Wednesday, June 12, at Whiskeytown National Recreation Area, California. This meeting will be a field trip with discussion about water quality issues, prescribed burning and fire ecology. The field trip will begin at 9 a.m. and end at 3 p.m.

DATES: Wednesday, June 12.

LOCATION: The field trip will begin at the Whiskeytown Visitor Center at the intersection of Hwy 299 and Kennedy Memorial Dr., 7 miles East of Redding, CA.

FOR FURTHER INFORMATION CONTACT: Jackie Riley, Committee Coordinator, USDA, Shasta-Trinity National Forest, 2400 Washington Ave., Redding, CA 96001 (530) 242-2203; e-mail: jriley01@fs.fed.us.

SUPPLEMENTARY INFORMATION: All PAC meetings are open to the public. Interested citizens are encouraged to attend. Opportunity will be provided for public input and individuals will have the opportunity to address the Committee at that time.

Dated: April 30, 2002.
J. Sharon Heywood,
Forest Supervisor.

[FR Doc. 02-11331 Filed 5-7-02; 8:45 am]

BILLING CODE 3410-FK-M